DEPARTMENT OF DEFENSE

Defense Acquisition Regulations System

[OMB Control Number 0704-0441]

Information Collection Requirement; Defense Federal Acquisition Regulation Supplement; Notification Requirements for Critical Safety Items

AGENCY: Defense Acquisition Regulations System, Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and budget (OMB) has approved this information collection for use through March 31, 2010. DoD proposes that OMB extend its approval for these collections to expire three years after the approval date.

DATES: DoD will consider all comments received by May 10, 2010.

ADDRESSES: You may submit comments, identified by OMB Control Number 0704-0441, using any of the following methods:

○ Federal eRulemaking Portal: http://www.regulations.gov. Follow the instructions for submitting comments.

○ E-mail: dfars@osd.mil. Include OMB Control Number 0704-0441 in the subject line of the message.

○ Fax: 703-602-0350.

○ Mail: Defense Acquisition Regulations System, Attn: Ms. Mary Overstreet, OUSD(AT&L)DPAP(DARS), Room 3B855, 3060 Defense Pentagon, Washington, DC 20301-3060.

○ Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Mary Overstreet, 703-602-0311. The information collection requirements addressed in this notice are available on the World Wide Web at: http://www.acq.osd.mil/dpap/dars/dfarspgi/current/index.html. Paper copies are available from Ms. Mary Overstreet, OUSD(AT&L)DPAP(DARS), Room 3B855, 3060 Defense Pentagon, Washington, DC 20301-3060.

SUPPLEMENTARY INFORMATION: Title, and OMB Number: Defense Federal Acquisition Regulation Supplement (DFARS) Notification Requirements for Critical Safety Items; OMB Control Number 0704-0441.

Needs and Uses: DoD needs this information to ensure that the Government receives timely notification of item nonconformances or deficiencies that could impact safety. The Procuring Contracting Officer (PCO) and the Administrative Contracting Officer (ACO) use the information to ensure that the customer is aware of potential safety issues in delivered products, has a basic understanding of the circumstances, and has a point of contact to begin addressing a mutually acceptable plan of action.

Affected Public: Businesses or other for-profit and not-for profit institutions.

Annual Burden Hours: 100.

Number of Respondents: 100.

Responses per Respondent: 1.

Annual Responses: 100.

Average Burden per Response: Approximately 1 hour.

Frequency: On occasion.

Summary of Information Collection

This information collection includes requirements relating to DFARS Part 246, Quality Assurance.

a. DFARS 246.371, Notification of Potential Safety Issues, prescribes use of the clause at DFARS 252.246-7003, Notification of Potential Safety Issues, to require DoD contractors to provide timely notification to the Government of any nonconformance or deficiency that could impact the safety of items acquired by or serviced for the Government.

b. DFARS 212.301(f)(xi) requires use of DFARS 252.246-7003 as prescribed in DFARS 246.371 for solicitations and contracts for the acquisition of commercial items.

c. DFARS 244.403 requires the use of DFARS 252.244-7000, Subcontracts for Commercial Items and Commercial Components (DoD Contracts), in solicitations and contracts for supplies or services other than commercial items that contain the clause at DFARS 252.246-7003. DFARS 252.244-7000 requires that contractors include DFARS 252.246-7003 when applicable in subcontracts for commercial items or commercial components awarded at any tier under the contract.

Ynette R. Shelkin,
Editor, Defense Acquisition Regulations System.

[FR Doc. 2010-4990 Filed 3-8-10; 8:45 am]

BILLING CODE 5001-08-P